DEPARTMENT OF COMMERCE

National Oceanic and Atmospheric Administration

50 CFR Part 622

[Docket No. 130212129-3474-02]

RIN 0648-XC967

Fisheries of the Caribbean, Gulf of Mexico, and South Atlantic; Reef Fish Fishery of the Gulf of Mexico; Closure of the 2014 Gulf of Mexico Recreational Season for Red Snapper

AGENCY: National Marine Fisheries Service (NMFS), National Oceanic and Atmospheric Administration (NOAA), Commerce.

ACTION: Temporary rule; closure.

SUMMARY: NMFS announces the closure date of the recreational season for red snapper in the exclusive economic zone (EEZ) of the Gulf of Mexico (Gulf) for the 2014 fishing season through this temporary rule. Federal waters of the Gulf will close to red snapper recreational harvest at 12:01 a.m., July 11, 2014. This closure is necessary to prevent the recreational sector from exceeding its quota for the fishing year and prevent overfishing of the Gulf red snapper resource.

DATES: The closure is effective 12:01 a.m., local time, July 11, 2014, until 12:01 a.m., local time, January 1, 2015. The recreational sector will reopen on June 1, 2015, the beginning of the 2015 recreational fishing season, unless superseding notification is published in the Federal Register.

FOR FURTHER INFORMATION CONTACT: Susan Gerhart, telephone 727-824-5305, email Susan.Gerhart@noaa.gov.

SUPPLEMENTARY INFORMATION: The Gulf reef fish fishery, which includes red snapper, is managed under the Fishery Management Plan for the Reef Fish Resources of the Gulf of Mexico (FMP). The FMP was prepared by the Gulf of Mexico Fishery Management Council (Council) and is implemented under the authority of the Magnuson-Stevens Fishery Conservation and Management Act (Magnuson-Stevens Act) by regulations at 50 CFR part 622.

The season length analysis for 2014 used a tiered projection approach for forecasting recreational red snapper average weight and in-season catch rates in the Gulf. The results of retrospective analyses indicate improvements in projection methodologies have occurred over time. Average weight estimates were historically underestimated, but in 2013 projected and observed average weights were within 3 percent of one another, and well within the range of average weights considered for projections. Similarly, estimates of season length improved from 2009 through 2012 with season estimates at or near the lower end of the range of season lengths projected. Past overages have occurred for a variety of reasons, including challenges with predicting angler behavior and landing rates, inconsistent state regulations, and rapidly increasing fish sizes. As a result, projection assumptions in more recent years, including the analysis used for 2014, have been refined to better account for increases in landings per day and changes in average weights.

To encompass the uncertainty inherent in projection modeling, ten models were selected to estimate the 2014 Federal season length. These models incorporated: (1) Upper/lower confidence limits of landings per day; (2) upper/lower confidence limits of average weights; (3) recent average weights (2011-13 or 2013 only); and (4) 2013 Louisiana Creel survey landings per day and average weights. The average season length predicted by all model runs was 39 days (± 2 days) and the median season length for all projections was 40 days. For additional details about the calculation of the projection please see http://sero.nmfs.noaa.gov/sustainable_fisheries/gulf_fisheries/red_snapper/documents/pdfs/2014/2014_rs_rec_season.pdf.

Based on the analysis summarized above, NMFS projects the recreational red snapper quota of 5.390 million lb (2.445 million kg), round weight (50 CFR 622.39(a)(2)(i)), to be harvested in 40 days in 2014. This projection assumes Alabama, Mississippi, and Florida will implement consistent regulations in their state waters, and that Louisiana and Texas will continue the same regulations in their state waters as were implemented for the 2013 season. Therefore, Federal waters of the Gulf will open to red snapper recreational harvest at 12:01 a.m., June 1, 2014, and close at 12:01 a.m., July 11, 2014. The recreational sector will reopen on June 1, 2015, the beginning of the 2015 recreational fishing season, unless superseding notification is published in the Federal Register.

During the closure, the bag and possession limit for red snapper in or from the Gulf EEZ is zero. In addition, a person aboard a vessel for which a Federal charter vessel/headboat permit for Gulf reef fish has been issued must also abide by these closure provisions in state waters. NMFS has determined this action is necessary to prevent the recreational sector for red snapper from exceeding its quota for the fishing year.

Classification

The Regional Administrator, Southeast Region, NMFS, (RA) has determined this temporary rule is necessary for the conservation and management of Gulf red snapper and is consistent with the Magnuson-Stevens Act and other applicable laws.

This action is taken under 50 CFR 622.39(a)(2)(i) and is exempt from review under Executive Order 12866.

These measures are exempt from the procedures of the Regulatory Flexibility Act because the temporary rule is issued without opportunity for prior notice and comment.

Pursuant to 5 U.S.C. 553(b)(B), there is good cause to waive the requirements to provide prior notice and opportunity for public comment on this temporary rule. Such procedures are unnecessary because the rule implementing the recreational red snapper quota and the rule implementing the requirement to close the recreational sector when the quota is reached or projected to be reached have already been subject to notice and comment, and NMFS must now notify the public of the closure.

Authority: 16 U.S.C. 1801 et seq.

Dated: December 16, 2013.
Sean F. Corson,
Acting Deputy Director, Office of Sustainable Fisheries, National Marine Fisheries Service.

[FR Doc. 2013-30194 Filed 12-16-13; 11:15 am]

BILLING CODE 3510-22-P